DEPARTMENT OF VETERANS AFFAIRS

[OMB Control No. 2900-0209]

Agency Information Collection Activity: Application for Work Study Allowance; Student Work-Study Agreement (Advance Payment); Extended Student Work-Study Agreement; Student Work-Study Agreement

AGENCY: Veterans Benefits Administration, Department of Veterans Affairs.

ACTION: Notice.

SUMMARY: In compliance with the Paperwork Reduction Act (PRA) of 1995 this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 13, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0209” in any correspondence.

FOR FURTHER INFORMATION CONTACT: Cynthia Harvey-Pryor, VA Clearance Officer—Office of Quality Privacy and Risk, Department of Veterans Affairs, 810 Vermont Avenue NW., Washington, DC 20420, (202) 461-5870 or email Cynthia.harvey.pryor@va.gov. Please refer to “OMB Control No. 2900-0209” in any correspondence.

SUPPLEMENTARY INFORMATION:

Authority: Section 3485 of title 38, United States Code, and section 21.4145 of title 38, Code of Federal Regulations necessitate these collections of information.

Title: Application for Work Study Allowance; Student Work-Study Agreement (Advance Payment); Extended Student Work-Study Agreement; Student Work-Study Agreement (VA Forms 22-8691, 22-8692, 22-8692a, and 22-8692b).

OMB Control Number: 2900-0209.

Type of Review: Renewal of a currently approved collection.

Abstract: VA uses the VA Forms 22-8691, 22-8692, 22-8692a, and 22-8692b collecting information to determine the individual's eligibility for the work-study allowance, the number of hours the individual will work, the amount payable, whether the individual desires an advance payment, and whether the individual wants to extend the work-study contract. An agency may not conduct or sponsor, and a person is not required to respond to a collection of information unless it displays a currently valid OMB control number. The Federal Register Notice with a 60-day comment period soliciting comments on this collection of information was published at 82 FR 35876 on August 1, 2017.

Affected Public: Individuals and households.

Estimated Annual Burden: 17,865 hours.

Estimated Average Burden per Respondent = 23 minutes.

Frequency of Response: Once Annually.

Estimated Number of Respondents: 113,851.

By direction of the Secretary.
Cynthia Harvey-Pryor,
VA Clearance Officer, Office of Quality Privacy and Risk, Department of Veterans Affairs.

[FR Doc. 2017-21823 Filed 10-10-17; 8:45 am]

BILLING CODE 8320-01-P